DEPARTMENT OF TRANSPORTATION

Federal Railroad Administration

[Docket Number FRA-2023-0031]

Petition for Waiver of Compliance

Under part 211 of title 49 Code of Federal Regulations (CFR), this document provides the public notice that by letter dated April 5, 2023, Amtrak petitioned the Federal Railroad Administration (FRA) for a waiver of compliance from certain provisions of the Federal railroad safety regulations contained at 49 CFR parts 215 (Railroad Freight Car Safety Standards), 229 (Railroad Locomotive Safety Standards), 232 (Brake System Safety Standards for Freight and Other Non-Passenger Trains and Equipment; End-of-Train Devices), and 238 (Passenger Equipment Safety Standards). The relevant Docket Number is FRA-2023-0031.

Specifically, Amtrak requests to use virtual reality simulation assessments to satisfy the “hands-on” portion of periodic refresher training to remain qualified under §§ 215.11(b), 229.5, 232.203(b)(8), and 238.109. Amtrak has partnered with “a recognized vendor” to create virtual simulations for brake system testing, pre-departure inspections, and locomotive calendar day air brake test and inspection. Amtrak further states that the simulations will complement other Amtrak training and testing, “creating a blended learning curriculum that presents and reinforces through tactile, auditory, and visual methods.”

In support of its petition, Amtrak explains that it “believe[s] the training curriculum afforded by Amtrak's new virtual simulations exceed the training objectives specified in each of [the] regulations noted above and will serve to enhance learner proficiency at performing the specified tests and inspections.” It also states that “when used as an evaluation tool, the virtual simulation is a better method to evaluate our students than our current state of training, as it simulates random complex defects in a virtual environment not impacting the safety of our employees or trains.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by July 5, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-09659 Filed 5-4-23; 8:45 am]

BILLING CODE 4910-06-P